ENVIRONMENTAL PROTECTION AGENCY

[EPA-HQ-OPP-2009-0008; FRL-8436-2]

SFIREG Environmental Quality Issues Working Committee Meeting

AGENCY: Environmental Protection Agency (EPA).

ACTION: Notice.

SUMMARY: The Association of American Pesticide Control Officials (AAPCO)/State FIFRA Issues Research and Evaluation Group (SFIREG), Environmental Quality Issues (EQI) Working Committee will hold a 2-day meeting, beginning on October 19, 2009 and ending October 20, 2009. This notice announces the location and times for the meeting and sets forth the tentative agenda topics.

DATES: The meeting will be held on Monday, October 19, 2009 from 8:30 a.m. to 5 p.m. and 8:30 a.m to 12 noon on Tuesday October 20, 2009

To request accommodation of a disability, please contact the person listed under FOR FURTHER INFORMATON CONTACT, preferably at least 10 days prior to the meeting, to give EPA as much time as possible to process your request.

ADDRESSES: The open meeting will be held at EPA. One Potomac Yard (South Bldg.) 2777 Crystal Dr., Arlington VA. 1st Floor South Conference Room.

FOR FURTHER INFORMATION CONTACT: Ron Kendall, Field and External Affairs Division (7506P), Office of Pesticide Programs, Environmental Protection Agency, 1200 Pennsylvania Ave., NW., Washington, DC 20460-0001; telephone number: (703) 305-5561 fax number: (703) 308-1850; e-mail address: kendall.ron@epa.gov. or Grier Stayton, SFIREG Executive Secretary, P.O. Box 466, Milford DE 19963; telephone number (302) 422-8152; fax (302) 422-2435; e-mail address: grierstaytonaapco-sfireg@comcast.net.

SUPPLEMENTARY INFORMATION:

I. General Information

A. Does this Action Apply to Me?

You may be potentially affected by this action if you are interested in SFIREG information exchange relationship with EPA regarding important issues related to human health, environmental exposure to pesticides, and insight into EPA’s decision-making process. You are invited and encouraged to attend the meetings and participate as appropriate. Potentially affected entities may include, but are not limited to: Those persons who are or may be required to conduct testing of chemical substances under the Federal Food, Drug and Cosmetics Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

Topics may include but are not limited to:

1. Update on the EPA's NPDES general permit for pesticides.

2. Report on USGS study on Pesticide Occurrence in the Lakes of the Ridge Citrus Region of Central Florida.

3. Office of Water-Update on Harmonization of Risk Assessment- Scoping Paper.

4. Office of Water-Update on atrazine water quality criteria and May SAP.

5. Update on Revision to Advisory Statements-Outcome of full SFIREG Meeting.

6. Fumigant label comments and label development.

7. OECA update.

8. Update on Office of Water's CCL3 and UCMR programs.

9. POINTS database summary and updates.

10. Briefing from the Federal-State Toxicology and Risk Analysis Committee(FSTRAC)- Discussion on SFIREG and FSTRAC working together.

11. NAWQA Cycle 3 update.

12. Spot on pet products. EPA's evaluation of these products and incident Data.

III. How Can I Request to Participate in this Meeting?

This meeting is open for the public to attend. You may attend the meeting without further notification.

List of Subjects

Environmental protection,

Dated: September 15, 2009.
William R. Diamond,
Director, Field and External Affairs Division, Office of Pesticide Programs

[FR Doc. E9-22620 Filed 9-22-09; 8:45 a.m.]

BILLING CODE 6560-50-S